DEPARTMENT OF ENERGY

Stakeholder Forum on Alternative Technologies to Incineration

Correction

In notice document 02-9194 appearing on page 18600 in the issue of Tuesday, April 16, 2002, make the following correction:

On page 18600, in the second column, above the signature line, “April 18, 2002” should read “April 8, 2002”.

[FR Doc. C2-9194 Filed 4-22-02; 8:45 am]

BILLING CODE 1505-01-D

FEDERAL COMMUNICATIONS COMMISSION

47 CFR Part 54

[CC Docket Nos. 00-256 and 96-45; FCC 02-89]

Multi-Association Group (MAG) Plan for Regulation of Non-Price Cap Incumbent Local Exchange Carriers and Interexchange Carriers; Federal-State Joint Board on Universal Service

Correction

In rule document 02-7997 beginning on page 15490 in the issue of Tuesday, April 2, 2002, make the following correction:

§54.903 [Corrected]

On page 15493, in the first column, in §54.903, in amendatory instruction numbered 2., in the fourth line, “March 18, 2002”, should read “April 18, 2002”.

[FR Doc. C2-7997 Filed 4-22-02; 8:45 am]

BILLING CODE 1505-01-D

DEPARTMENT OF TRANSPORTATION

Federal Aviation Administration

14 CFR Part 39

[Docket No. 2001-CE-42-AD; Amendment 39-12695; AD 2002-07-01]

RIN 2120-AA64

Airworthiness Directives; Cessna Aircraft Company P206, TP206, TU206, U206, 207, T207, 210, P210, and T210 Series Airplanes

Correction

In rule document 02-7645 beginning on page 15714 in the issue of Wednesday April 3, 2002, the table is corrected make the following correction:

§39.13 [Corrected]

On page 15716, in the first column, in §39.14, the table should read as set forth below:

(d) What actions must I accomplish to address this problem? To address this problem, you must accomplish the following:

Actions | Compliance | Procedures
(1) Maintenance Records Check: | Within the next 50 hours time-in-service (TIS) after May 13, 2002 (the effective date of this AD), unless already accomplished | No special procedures required to check the logbook.
(i) Check the maintenance records to determine whether a horizontal stabilizer attachment reinforcement bracket, part number (P/N) 1232624-1, shipped by Cessna from February 27, 1998, through March 17, 2000, is installed. The owner/operator holding at least a private pilot certificate as authorized by section 43.7 of the Federal Aviation Regulations (14 CFR 43.7) may perform this check
(ii) If, by checking the maintenance records, the owner/operator can positively show that a horizontal stabilizer attachment reinforcement bracket, P/N 1232624-1, shipped by Cessna from February 27, 1998, through March 17, 2000, is not installed, then the inspection requirement of paragraph (d)(2) and the replacement requirement of paragraph (d)(3) of this AD do not apply. You must make an entry into the aircraft records that shows compliance with this portion of the AD, in accordance with section 43.9 of the Federal Aviation Regulations (14 CFR 43.9)
(2) Inspection: Visually inspect the right and left horizontal stabilizer attachment reinforcement brackets, part number (P/N) 1232624-1, for the existence of seam welds along both the lower inboard and outboard wall/flange | Within the next 50 hours TIS after May 13, 2002 (the effective date of this AD), unless already accomplished | In accordance with the Accomplishment Instructions in Cessna Service Bulletin SEB00-10, dated November 6, 2000, and the applicable maintenance manual.
(3) Replacement: | Accomplish any necessary replacements prior to further flight after the inspection required by paragraph (d)(2) of this AD, unless already accomplished | In accordance with the Accomplishment Instructions in Cessna Service Bulletin SEB00-10, dated November 6, 2000, and the applicable maintenance manual.
(i) If no seam weld is found along both the lower inboard and outboard wall/flange on the right and left horizontal stabilizer attachment reinforcement bracket during the inspection required in paragraph (d)(2) of this AD, replace with a new or airworthy P/N 1232624-1 horizontal stabilizer attachment reinforcement bracket.
(ii) If the right and left horizontal stabilizer attachment reinforcement bracket has seam welds along both the lower inboard and outboard wall/flange, no further action is required
(4) Installation Prohibition: Do not install any P/N 1232624-1 horizontal stabilizer attachment reinforcement bracket (or FAA-approved equivalent part) unless the bracket: | As of May 13, 2002 (the effective date of this AD) | Not applicable.
(i) is inspected as required in paragraph (d)(2) of this AD; and
(ii) has seam welds along both the lower inboard and outboard wall/flange.

[FR Doc. C2-7645 Filed 4-22-02; 8:45 am]

BILLING CODE 1505-01-D

DEPARTMENT OF TRANSPORTATION

Federal Aviation Administration

14 CFR Part 39

[Docket No. 99-NM-86-AD; Amendment 39-12699; AD 2002-07-05]

RIN 2120-AA64

Airworthiness Directives; Airbus Model A300 B2, A300 B4, A300 B4-600, and A300 B4-600R Series Airplanes; and Model A300 F4-605R Airplanes

Correction

In rule document 02-8278 beginning on page 16983 in the issue of Tuesday, April 9, 2002, make the following correction:

§ 39.13 [Corrected]

On page 16985, § 39.13, in column 2 of Table 3, in the ninth line,“12,00” should read “12,000”.

[FR Doc. C2-8278 Filed 4-22-02; 8:45 am]

BILLING CODE 1505-01-D

DEPARTMENT OF THE TREASURY

Customs Service

19 CFR Part 181

[T.D. 02-15]

RIN 1515-AD08

North American Free Trade Agreement

Correction

In rule document 02-8053 beginning on page 15480 in the issue of Tuesday, April 2, 2002, make the following corrections:

1. On page 15481, in the ÿ7Ethird column, in the second paragraph, paragraph numbered 4., in the seventh line, “cots” should read “costs ”.

2. On page 15482, in the first column, in the ninth line of paragraph numbered five, “cases” should read “case”.

3. On the same page, in the same column, in the same paragraph, in line fourteen, “or” should read “of”.

4. On the same page, in the same column, the fifth to the last line of paragraph numbered 6., “year of production of the materials of ” should read “year of production of the materials or”.

5. On the same page, in the same column, in the same paragraph, in the fourth from the last line, “this” should read “the”.

6. On page 15482, in the second column, in the third full paragraph, the second sentence should read, “This change involves replacing the reference to tariff items “2106.90.16 and 2106.90.17” by a reference to tariff items “2106.90.48 and 2106.90.52” within paragraph (c) of subsection (4) under Section 5 of Part II”.

Appendix to Part 181 [Corrected]

1. On page 15483, in the second column, in the fourth line of paragraph (4)(i), “subheading” should read “subheadings”.

2. On the same page, in the same column, in the same paragraph in the fifth line, “8414.10” should read “8418.10”.

3. On the same page, in the same column, underÿ7E SECTION 7. MATERIALS, in paragraph (16)(a) “materials. ” should read “materials ”.

4. On page 15484, in the first column, the heading “SECTION 4.1” should read “SECTION 4.1.”.

5. On the same page, in the same column, under the heading SECTION 12, “A producer of a good, or a person from whom the producer accquired the fungible good” should read “An exporter of a good, or a person from whom the exporter acquired the fungible good ”.

[FR Doc. C2-8053 Filed 4-22-02; 8:45 am]

BILLING CODE 1505-01-D